DEPARTMENT OF HOUSING AND URBAN DEVELOPMENT

[Docket No. FR-5403-N-01]

Notice of Availability: Notice of Fiscal Year (FY) 2009 Implementation of the Veterans Homelessness Prevention Demonstration Program

AGENCY: Office of Assistant Secretary for Community Planning and Development, HUD.

ACTION: Notice.

SUMMARY: Through this notice, HUD announces the availability on its website of the funding criteria, policies and procedures for the administration of the statutorily authorized Preventing Homelessness Among the Nation's Veterans Demonstration Program, referred to as the Veterans Homelessness Prevention Demonstration Program (VHPD), in a limited number of U.S. communities. The Omnibus Appropriations Act for 2009 (Pub. L. 111-8, approved March 11, 2009), authorizes the VHPD and appropriates $10 million for HUD to conduct the demonstration. Consistent with this authority, HUD has coordinated with the Department of Veterans Affairs and the Department of Labor in selecting a limited number of urban and rural sites in which to carry out this demonstration. The purpose of the VHPD is to explore ways for the federal government to offer early intervention homelessness prevention, primarily to veterans returning from wars in Iraq and Afghanistan. It is anticipated that this demonstration program will provide an opportunity to understand the unique needs of this new cohort of veterans, and will support efforts to identify, reach and assist them to regain and maintain housing stability.

The notice providing information regarding the application process, funding criteria and eligibility requirements is available on the HUD Web site at http://www.hud.gov/offices/adm/grants/fundsavail.cfm. The Catalogue of Federal Domestic Assistance (CFDA) number for the VHPD program is 14.239.

FOR FURTHER INFORMATION CONTACT: Questions regarding the VHPD Notice should be submitted to the HUD e-snaps Virtual Help Desk at http://www.hudhre.info/helpdesk.

Dated: July 22, 2010.
Mercedes Márquez,
Assistant Secretary for Community Planning and Development.

[FR Doc. 2010-18420 Filed 7-26-10; 8:45 am]

BILLING CODE 4210-67-P